DEPARTMENT OF COMMERCE

National Oceanic and Atmospheric Administration

RIN 0648-XE517

Endangered Species; File No. 19697

AGENCY: National Marine Fisheries Service (NMFS), National Oceanic and Atmospheric Administration (NOAA), Commerce.

ACTION: Notice; receipt of application.

SUMMARY: Notice is hereby given that Carlos E. Diez, Departamento de Recursos Naturales y Ambientales de Puerto Rico, Programa de Especies Protegidas, P.O. Box 366147, San Juan, Puerto Rico, 00936, has applied in due form for a permit to take green (Chelonia mydas) and hawksbill (Eretmochelys imbricata) sea turtles for purposes of scientific research.

DATES: Written, telefaxed, or email comments must be received on or before April 25, 2016.

ADDRESSES: The application and related documents are available for review by selecting “Records Open for Public Comment” from the “Features” box on the Applications and Permits for Protected Species (APPS) home page, https://apps.nmfs.noaa.gov, and then selecting File No. 19697 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa L. González or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to continue long-term projects studying green and hawksbill sea turtle aggregations in the coastal waters of Puerto Rico, including Mona, Monito, and Desecheo Islands, and Culebra Archipelago. Proposed research would involve vessel surveys for abundance counts and capture by hand or tangle nets to assess the population structure, trends in relative abundance, habitat utilization, genetics, zoogeography, and epidemiology of sea turtles in their foraging habitats. Annually, up to 150 green and 150 hawksbill sea turtles would be captured. Each turtle would be flipper and passive integrated transponder tagged, measured, weighed, photographed/videoed, and may be blood and tissue sampled. A subset of up to 10 sea turtles annually of each species may also be outfitted with satellite transmitters to track movements post-release. Another subset of up to 10 green sea turtles would also be authorized for ultrasound and tumor removal surgery in a local facility.

Dated: March 18, 2016.
Julia Harrison,
Chief, Permits and Conservation Division, Office of Protected Resources, National Marine Fisheries Service.

[FR Doc. 2016-06682 Filed 3-23-16; 8:45 am]

BILLING CODE 3510-22-P